DEPARTMENT OF TRANSPORTATION

National Highway Traffic Safety Administration

[U.S. DOT Docket No. NHTSA-2014-0013]

Reports, Forms, and Recordkeeping Requirements

AGENCY: National Highway Traffic Safety Administration, DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections.

This document describes the collection of information for which NHTSA intends to seek OMB approval.

DATES: Comments must be received on or before April 15, 2014.

ADDRESSES: You may submit comments identified by DOT Docket ID Number NHTSA-2014-0013 using any of the following methods:

Electronic submissions: Go to http://www.regulations.gov. Follow the on-line instructions for submitting comments.

Mail: Docket Management Facility, M-30, U.S. Department of Transportation, 1200 New Jersey Avenue SE., West Building Ground Floor, Room W12-140, Washington, DC 20590.

Hand Delivery: West Building Ground Floor, Room W12-140, 1200 New Jersey Avenue SE., Washington, DC, between 9 a.m. and 5 p.m., Monday through Friday, except Federal holidays.

Fax: 1-202-493-2251.

Instructions: Each submission must include the Agency name and the Docket number for this Notice. Note that all comments received will be posted without change to http://www.regulations.gov including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://Docketslnfo.dot.gov.

FOR FURTHER INFORMATION CONTACT: Mr. Alan Block, Contracting Officer's Technical Representative, Office of Behavioral Safety Research (NTI-131), National Highway Traffic Safety Administration, 1200 New Jersey Avenue SE., W46-499, Washington, DC 20590. Mr. Block's phone number is 202-366-6401 and his email address is alan.block@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(I) Whether the proposed collection of information is necessary for the proper performance of the functions of the agency, including whether the information will have practical utility;

(ii) the accuracy of the agency's estimate of the burden of the proposed collection of information, including the validity of the methodology and assumptions used;

(iii) how to enhance the quality, utility, and clarity of the information to be collected; and

(iv) how to minimize the burden of the collection of information on those who are to respond, including the use of appropriate automated, electronic, mechanical, or other technological collection techniques or other forms of information technology, e.g., permitting electronic submission of responses.

In compliance with these requirements, NHTSA asks public comment on the following proposed collection of information:

Demonstration Tests of Different High Visibility Enforcement Models

Type of Request—New information collection requirement.

OMB Clearance Number—None.

Form Number—NHTSA Forms 1121, 1122, 1123.

Requested Expiration Date of Approval—3 years from date of approval.

Summary of the Collection of Information—NHTSA proposes to collect information in selected communities on public perceptions of enforcement of laws prohibiting alcohol-impaired driving. The communities will differ in their levels of highly visible enforcement. Telephone interviews will be administered to residents in each of five communities who are drivers, age 18 and older, have access to a residential landline and/or a personal cell phone, and have consumed alcohol in the past year. This study will also conduct in-person interviews in each of the five communities with patrons at bars or other establishments serving alcohol. The respondents will be age 21 and older.

Description of the Need for the Information and Proposed Use of the Information—NHTSA was established to reduce the number of deaths, injuries, and economic losses resulting from motor vehicle crashes on the Nation's highways. As part of this statutory mandate, NHTSA is authorized to conduct research as a foundation for the development of motor vehicle standards and traffic safety programs.

Highly visible enforcement (HVE) has had the strongest support in the research literature for effectiveness in reducing alcohol-impaired driving. The unknown at this time is the relationship of the amount of HVE to perceived risk within a community of an alcohol-impaired driver being stopped by law enforcement. In particular, does the perceived risk increase as the amount of HVE increases? And is the optimum effect on awareness and perceived risk achieved through an integrated program where HVE is integrated into regular law enforcement operations? NHTSA proposes to address those questions by selecting community sites engaging in different levels of HVE activity over a one-year period, and collecting information on community awareness of those enforcement programs and the perceived risk of an alcohol-impaired driver being stopped by law enforcement officers. Five sites will be selected.

NHTSA will use the findings from this proposed collection of information to assist States, localities, and law enforcement agencies to design and implement sustained programs of highly visible enforcement of the laws pertaining to alcohol-impaired driving.

Description of the Likely Respondents (Including Estimated Number, and Proposed Frequency of Response to the Collection of Information)—This proposed effort would involve a maximum of three telephone survey waves in each of the five selected communities. The sample size per survey wave per community would be 1,200. The total number of telephone interviews within a community over the course of the one year field period would be a maximum of 3,600, with the grand total for the five communities combined being a maximum of 18,000 telephone interviews. Respondents would be drivers age 18 and older that had consumed alcohol in the past year. Businesses are ineligible for the sample and would not be interviewed. No more than one respondent would be selected per household. Each member of the sample would complete one interview, and only participate in one survey wave.

This effort would also include a maximum of three waves of in-person interviews of patrons at bars or other establishments serving alcohol. The total number of in-person interviews within a community over the course of the one year field period would be a maximum of 1,200, with the grand total for the five communities combined being a maximum of 6,000 in-person interviews. Respondents would be patrons of alcohol-serving establishments age 21 and older. Each respondent would receive a small number of questions to answer both upon entry to the establishment and upon departure.

Estimate of the Total Annual Reporting and Record Keeping Burden Resulting From the Collection of Information—NHTSA estimates that respondents would require an average of 10 minutes to complete the telephone interviews. If the maximum number of 18,000 telephone interviews is conducted, this would compute to 3,000 interviewing hours. The interviews with establishment patrons would require an average of eight minutes for the entry and exit interview combined. With a maximum of 6,000 respondents, this would compute to 800 interviewing hours.

All interviewing would occur during a single year. Thus the annual reporting burden would be the entire 3,800 hours. The respondents would not incur any reporting cost from the information collection. The respondents also would not incur any record keeping burden or record keeping cost from the information collection.

Authority: 44 U.S.C. Section 3506(c)(2)(A).

Dated: February 5, 2014.
Jeff Michael,
Associate Administrator, Research and Program Development.

[FR Doc. 2014-02812 Filed 2-13-14; 8:45 am]

BILLING CODE 4910-59-P